DEPARTMENT OF LABOR

Employment and Training Administration

[TA-W-64,190]

Hafner USA, Inc.: New York, NY; Notice of Affirmative Determination Regarding Application for Reconsideration

By application dated January 1, 2009, the Department of Labor (Department) received a request for administrative reconsideration of the Department's Notice of negative determination regarding workers' eligibility to apply for Trade Adjustment Assistance (TAA) and Alternative Trade Adjustment Assistance (ATAA) applicable to workers and former workers of the subject firm. The determination was issued on November 26, 2008. The Department's Notice of determination was published in the Federal Register on December 10, 2008 (73 FR 75138). The subject workers are engaged in textile distribution services for goods produced in Canada.

The negative determination was based on the Department's findings that the petitioning workers do not support a firm or appropriate subdivision that produces an article domestically.

In the request for reconsideration, a worker alleged that the subject workers' work was related to the textile manufactured in affiliated facilities in North Carolina, Virginia, New York, and related to the textile dyed and finished at an affiliated facility in Pennsylvania.

The Department has carefully reviewed the request for reconsideration, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 13th day of January 2009.
Elliott S. Kushner,
Certifying Officer, Division of Trade Adjustment Assistance.

[FR Doc. E9-1490 Filed 1-23-09; 8:45 am]

BILLING CODE 4510-FN-P